DEPARTMENT OF COMMERCE

International Trade Administration

[C-570-089]

Certain Steel Racks and Parts Thereof From the People's Republic of China: Amended Final Results of Countervailing Duty Administrative Review in Part; 2020

AGENCY: Enforcement and Compliance, International Trade Administration, Department of Commerce.

SUMMARY: The U.S. Department of Commerce (Commerce) is amending the final results of the administrative review of the countervailing duty (CVD) order on certain steel racks and parts thereof from the People's Republic of China (China), covering the period of review (POR) January 1, 2020, through December 31, 2020, to correct ministerial errors.

DATES: Applicable May 16, 2023.

FOR FURTHER INFORMATION CONTACT: Drew Jackson, AD/CVD Operations, Office IV, Enforcement and Compliance, International Trade Administration, U.S. Department of Commerce, 1401 Constitution Avenue NW, Washington, DC 20230; telephone: (202) 482-4406.

SUPPLEMENTARY INFORMATION:

Background

Commerce published the final results of this review on April 10, 2023.¹ On April 11 and 12, 2023, we received timely submitted ministerial error comments from the petitioner ² and Nanjing Dongsheng Shelf Manufacturing Co., Ltd. (Dongsheng), respectively.³ We are amending the Final Results to correct the ministerial errors raised by the petitioner and Dongsheng.

¹ See Certain Steel Racks and Parts Thereof from the People's Republic of China: Final Results and Partial Rescission of Countervailing Duty Administrative Review; 2020, 88 FR 21177 (April 10, 2023) (Final Results).

² The petitioner is the Coalition for Fair Racks Imports.

³ See Petitioner's Letter, “Ministerial Error Allegations,” dated April 11, 2023; see also Dongsheng's Letter, “Ministerial Error Comment,” dated April 12, 2023.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁴ With respect to final results of administrative reviews, 19 CFR 351.224(e) provides that Commerce “will analyze any comments received and if appropriate, correct any ministerial error by amending . . . the final results of review . . .”

⁴ See 19 CFR 351.224(f).

Ministerial Error

Commerce determines that, in accordance with section 751(h) of the Act and 19 CFR 351.224(f), it made ministerial errors in the Final Results. Pursuant to 19 CFR 351.224(e), Commerce is amending the Final Results to reflect the correction of these ministerial errors in the calculation of Dongsheng's countervailable subsidy rate, which changes from 6.09 percent to 5.90 percent. For a detailed discussion of Commerce's analysis, see the Ministerial Error Memorandum and Amended Analysis Memorandum.⁵ As a result of this change, the rate for the non-selected companies under review also changes from 6.09 percent to 5.90 percent.⁶

⁵ See Memoranda, “Ministerial Error Memorandum for the Final Results of the 2020 Administrative Review of the Countervailing Duty Order on Certain Steel Racks and Parts Thereof from the People's Republic of China,” dated concurrently with this notice (Ministerial Error Memorandum); and “2020 Administrative Review of the Countervailing Duty Order on Certain Steel Racks and Parts Thereof from the People's Republic of China: Amended Final Results Calculations for Nanjing Dongsheng Shelf Manufacturing Co., Ltd.,” dated concurrently with this notice (Amended Analysis Memorandum).

⁶ Id.

Amended Final Results of Review

As a result of correcting the ministerial errors described above, Commerce determines the following net countervailable subsidy rates for the period January 1, 2020, through December 31, 2020:

Company | Subsidy rate (percent ad valorem)
Nanjing Dongsheng Shelf Manufacturing Co., Ltd | 5.90
Non-Selected Companies Under Review ⁷ | 5.90

Disclosure

⁷ See the appendix to this notice for a full list of companies not individually examined in this review.

We intend to disclose the calculations performed for these amended final results within five days of the date of publication of this notice, in accordance with 19 CFR 351.224(b).

Assessment

Pursuant to section 751(a)(2)(C) of the Act and 19 CFR 351.212(b)(1), Commerce shall determine and U.S. Customs and Border Protections (CBP) shall assess, countervailing duties on all appropriate entries of subject merchandise in accordance with the amended final results of this review.

We intend to issue liquidation instructions to CBP 35 days after publication of the amended final results of this review.

Cash Deposit Requirements

In accordance with section 751(a)(2)(C) of the Act, Commerce also intends to instruct CBP to collect cash deposits of estimated countervailing duties in the amounts shown for the companies subject to this review, effective April 10, 2023, the date of publication of the Final Results in the Federal Register. For all non-reviewed companies, CBP will continue to collect cash deposits of estimated countervailing duties at the most recent company specific or all-others rate applicable to the company, as appropriate. These cash deposits, when imposed, shall remain in effect until further notice.

Administrative Protective Order

This notice serves as a final reminder to parties subject to an administrative protective order (APO) of their responsibility concerning the destruction of proprietary information disclosed under APO in accordance with 19 CFR 351.305(a)(3). Timely written notification of return or destruction of APO materials or conversion to judicial protective order is hereby requested. Failure to comply with the regulations and the terms of an APO is sanctionable violation.

Notification to Interested Parties

We are issuing and publishing these amended final results of review in accordance with sections 751(h) and 777(i) of the Act and 19 CFR 351.224(e).

Dated: May 10, 2023.
Lisa W. Wang,
Assistant Secretary for Enforcement and Compliance.

Appendix

List of Companies Not Selected for Individual Examination

1. Ateel Display Industries (Xiamen) Co., Ltd.

2. CTC Universal (Zhangzhou) Industrial Co., Ltd.

3. David Metal Craft Manufactory Ltd.

4. Fujian Ever Glory Fixtures Co., Ltd.

5. Guangdong Wireking Housewares and Hardware Co., Ltd.

6. Hebei Wuxin Garden Products Co., Ltd.

7. Huanghua Xinxing Furniture Co., Ltd.

8. i-Lift Equipment Ltd.

9. Johnson (Suzhou) Metal Products Co., Ltd.

10. Master Trust (Xiamen) Import and Export Co., Ltd.

11. Nanjing Ironstone Storage Equipment Co., Ltd.

12. Nanjing Kingmore Logistics Equipment Manufacturing Co., Ltd.

13. Ningbo Xinguang Rack Co., Ltd.

14. Redman Corporation

15. Redman Import & Export Limited

16. Suzhou (China) Sunshine Hardware & Equipment Imp. & Exp. Co. Ltd.

17. Tianjin Master Logistics Equipment Co., Ltd.

18. Xiamen Baihuide Manufacturing Co., Ltd.

19. Xiamen Ever Glory Fixtures Co., Ltd.

20. Xiamen Golden Trust Industry & Trade Co., Ltd.

21. Xiamen Kingfull Imp and Exp Co., Ltd. (d.b.a) Xiamen Kingfull Displays Co., Ltd.

22. Xiamen LianHong Industry and Trade Co., Ltd.

23. Xiamen Luckyroc Industry Co., Ltd.

24. Xiamen Luckyroc Storage Equipment Manufacture Co., Ltd.

25. Xiamen Meitoushan Metal Products Co., Ltd.

26. Xiamen Power Metal Display Co., Ltd.

27. Xiamen XinHuiYuan Industrial & Trade Co., Ltd.

28. Xiamen Yiree Display Fixtures Co., Ltd.

29. Zhangjiagang Better Display Co., Ltd.

[FR Doc. 2023-10412 Filed 5-15-23; 8:45 am]

BILLING CODE 3510-DS-P